DEPARTMENT OF TRANSPORTATION

National Highway Traffic Safety Administration

[Docket No. NHTSA 2002-12005, Notice 1]

International Truck and Engine Corporation, Receipt of Application for Decision of Inconsequential Noncompliance

International Truck and Engine Corporation (International) of Fort Wayne, Indiana, has determined that certain model year 2002 trucks, series 4300, 4400, 7300, and 7400, do not meet the requirements of paragraph S4.2.2 of Federal Motor Vehicle Safety Standard (FMVSS) No. 104 “Windshield Wiping and Washing Systems.” Pursuant to 49 U.S.C. 30118(d) and 30120(h), International has petitioned for a decision that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

International relates that the noncompliant vehicles, 15,327 trucks in the U.S. (plus 1,216 trucks in Canada not covered by this petition,) were manufactured between October 24, 2000, and October 22, 2001, and were built with a washer bottle pump circuit that included a 5-amp fuse. When performing the washer system strength test which requires that the reservoir be filled with water and frozen, the 5-amp fuse blew 250 milliseconds after the first actuation of the washer switch. International has determined that this is noncompliant with regard to washer system strength requirements in FMVSS No. 104, paragraph S4.2.2, which states, “Each multipurpose passenger vehicle, truck, and bus shall have a windshield washing system that meets the requirements of SAE Recommended Practice J942, November 1965, except that the reference to “the effective wipe pattern defined in SAE J903, paragraph 3.1.2’ in paragraph 3.1 of SAE Recommended Practice J942 shall be deleted and ‘the pattern designed by the manufacturer for the windshield wiping system on the exterior surface of the windshield glazing’ shall be inserted in lieu thereof.”

International does not believe that a blown fuse in the windshield washer circuit constitutes a risk to highway safety in the unique situation of frozen water in the washer reservoir. International's test results with the 5-amp fuse in the circuit indicated conformance to all system strength requirements of SAE J942, “Passenger Car Windshield Washing Systems,” including section 4.2.2(a) related to plugged nozzles, except for section 4.2.2(b), which International believes to be a very low risk of happening in an operational environment.

According to International, when operating the vehicle with the specified washer fluid for this system, the system would have a very low possibility of being frozen (in the mixed state of 47 percent, it has a freeze point of-48 degrees C). Therefore, the probability of blowing a fuse because of frozen fluid is very low.

International has had vehicles of various model types in operation for approximately 13 months before the date of the petition (December 7, 2001) with no reported field problems. Also warranty records for the washer system as of that date show a “very low incident rate” for the washer system as a whole (16 claims) compared with total vehicle population build (19,880). None of these claims relate to the failed test condition of frozen water in the washer reservoir.

Interested persons are invited to submit written data, views and arguments on the application described above. Comments should refer to the docket number and be submitted to : U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. After the Administrator has determined that the application will be granted or denied, a decision notice will be published in the Federal Register pursuant to the authority indicated below. Comment closing date: May 13, 2002.

(49 U.S.C. 301118, 301120; delegations of authority at 49 CFR 1.50 and 501.8)
Issued on: April 5, 2002.
Stephen R. Kratzke,
Associate Administrator, for Safety Performance Standards.

[FR Doc. 02-8791 Filed 4-10-02; 8:45 am]

BILLING CODE 4910-59-P